DEPARTMENT OF HEALTH AND HUMAN SERVICES

Statement of Organization, Functions, and Delegations of Authority

AGENCY: Office of the Assistant Secretary, Department of Health and Human Services.

ACTION: Notice.

SUMMARY: The Department of Health and Human Services (HHS) is updating the organizational structure of the Office of Grants in the Office of the Assistant Secretary for Financial Resources (ASFR), which is located within the Office of the Secretary. ASFR is modifying the Office of Grants organizational structure to further improve and streamline its operation and to assume responsibility for maintaining and operating the GrantSolutions System currently aligned to the National Grant Center of Excellence (COE) in the Administration for Children and Families (ACF). The changes proposed affect HHS organizational Chapter AM Section AMU1 and AMU2 and Chapter KP Section KPA.

ADDRESSES: 200 Independence Ave. SW, Washington, DC 20201, (202) 619-0142.

FOR FURTHER INFORMATION CONTACT: Alice Bettencourt, Deputy Assistant Secretary for Grants, Alice.Bettencourt@hhs.gov or (202) 619-0142.

SUPPLEMENTARY INFORMATION:

Chapter AMU, the Office of Grants Section AMU1 and AMU2

The Office of Grants (AMU) organizational structure and responsibilities remain as described in Federal Register Document 2019-09459, with two divisional modifications.

1. The Division of Systems (AMU2) is renamed the Division of Information and Solutions. The Division of Information and Solutions is headed by a Director and develops, manages, and operates major, grant-shared services and solution offerings for HHS, as directed by the Secretary of HHS or delegated authority. Organizational units within AMU2 may be adjusted from time to time and as necessary to accommodate new, changing, or discontinued shared services or solution offerings. The Division of Information and Solutions assumes responsibility for operating and maintaining the GrantSolutions system in its current form as well as for future GrantSolutions development efforts. The Division of Information and Solutions will also manage GrantSolutions-related customer relationships and agreements, formerly managed by the National Grant COE in ACF.

2. The Division of Grant Policy, Oversight, and Evaluation (AMU1) is renamed the Division of Policy, Oversight, and Evaluation.

Chapter KP, the Office of the Deputy Associate Secretary for Administration (ODASA) in ACF, Section KPA, National Grants Center of Excellence

ODASA dissolves the National Grant COE, in compliance with OMB Memo Memorandum M-18-24, Strategies to Reduce Grant Recipient Reporting Burden, which rescinded all Center of Excellence designations. Responsibility for operating and managing the GrantSolutions system moves to The Office of Grants, Division of Information and Solutions (AMU2).

Dated: December 10, 2020.
Alex M. Azar II,
Secretary, Department of Health & Human Services.

[FR Doc. 2020-27814 Filed 12-16-20; 8:45 am]

BILLING CODE 4150-24-P